TENNESSEE VALLEY AUTHORITY

Sunshine Act Notice; Meeting No. 07-03

Time and Date: 9 a.m. (CDT), May 31, 2007, Trotter Convention Center, Columbus Room Auditorium, 123 5th Street South, Columbus, Mississippi.

Status: Open.

Agenda

Old Business

Approval of minutes of March 30, 2007, Board Meeting.

New Business

1. President's Report.

2. Report of the Finance, Strategy, and Rates Committee.

A. Strategic Plan.

B. Customer items.

i. Annual product reviews.

a. Limited Interruptible Power/Limited Firm Power.

b. Variable Price Interruptible Power.

c. Proposed transmission and ancillary service rates under the Transmission Service Guidelines.

ii. Product revisions.

a. 5-minute interruptible.

b. Real Time Energy.

c. Enhanced Growth Credit eligibility requirements relating to nonconforming load.

iii. Individual customer contracts.

a. Revised pricing under a contract with a directly-served customer.

b. Extension of Competitive Indexed Rate arrangements with an industrial customer of North Georgia Electric Membership Corporation.

3. Report of the Operations, Environment, and Safety Committee.

A. Authorization to enter into long-term transmission service agreements in accordance with TVA Transmission Service Guidelines.

B. Authorization to enter into transmission service agreements to supply TVA's isolated native load.

C. Authorization to enter into six term coal supply agreements.

D. Board Practice—Independent Nuclear Safety Advisors.

4. Report of the Audit and Ethics Committee.

5. Report of the Human Resources Committee.

A. Compensation plan.

6. Report of the Community Relations Committee.

A. Section 26a permit appeals process.

B. Proposed appointments to the Regional Resource Stewardship Council and designation of Tom Littlepage to serve as the chairperson.

C. Public auction sale of approximately 17.7 acres of property in Tishomingo County, Mississippi, for industrial purposes.

D. Sale of approximately 18 acres of transmission line rights to Weakley County, Tennessee.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: May 24, 2007.
Maureen H. Dunn,
General Counsel and Secretary.

[FR Doc. 07-2691 Filed 5-25-07; 12:30 pm]

BILLING CODE 8120-08-P